DEPARTMENT OF TRANSPORTATION

Federal Aviation Administration

14 CFR Part 73

[Docket No. FAA-2008-1261; Airspace Docket No. 06-ASO-18]

RIN 2120-AA66

Amendment and Establishment of Restricted Areas and Other Special Use Airspace, Avon Park Air Force Range, FL

AGENCY: Federal Aviation Administration (FAA), DOT.

ACTION: Final rule.

SUMMARY: This action restructures the special use airspace (SUA) at the Avon Park Air Force Range (APAFR), Florida. The changes provide additional restricted airspace needed for training in high altitude weapons releases and other hazardous activities, and reconfigure the military operations areas (MOA) to contain nonhazardous flight operations. These changes will permit realistic training in current tactics to be conducted at the Range and enable more efficient use of the National Airspace System.

DATES: Effective date 0901 UTC, July 29, 2010.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

Background

On Thursday, February 12, 2009, the FAA published in the Federal Register a notice of proposed rulemaking (NPRM) to restructure the SUA at the APAFR, Florida (74 FR 7018). Interested parties were invited to participate in this rulemaking proceeding by submitting written comments on the proposal to the FAA. Four responses were received.

Discussion of Comments

One commenter wrote that the APAFR should be eliminated in its entirety due to a lack of observed activity at the Range. The commenter also stated that the NPRM did not propose any altitude restrictions or changes for the area.

The FAA does not agree. The airspace in this general area has been used for military purposes dating back to the 1940s and the range remains a crucial training resource today. The APAFR restricted areas are used for a variety of hazardous activities, many of which may not be readily apparent through observation. These activities include not only aircraft operations such as various attack profiles and air-to-ground weapons delivery, etc.; but also various non-aviation, ground-based activities including artillery, mortars, missiles, etc. The MOAs are used for nonhazardous flight operations that support range missions. A sampling of APAFR restricted area and MOA annual utilization data for Fiscal Year (FY) 2004 and FY 2009 shows significant use of the airspace. For example, in FY 2004, the Avon East MOA was used on 277 days with 8,618 aircraft sorties. In FY 2009, the same MOA was used on 280 days with 10,131 aircraft sorties. The restricted areas also saw extensive use, reflecting continuing, real-world training requirements. In FY 2004, R-2901A and C through I were used on 276 days with 8,581 aircraft sorties. The FY 2004 figures for R-2901B were 206 days and 3,415 aircraft sorties. In FY 2009, the figures for all R-2901 areas (A through I) grew to 280 days and 10,131 aircraft sorties. As described in more detail below, this action makes a number of airspace modifications at APAFR. All changes to APAFR SUA are contained within the current outer foot print of the range airspace with the existing SUA altitude floors remaining unchanged. New SUA is being added upward within that footprint but in layers so that only those sections of airspace needed for the mission will be activated. The Lake Placid MOA is subdivided into three sections to enable more efficient use of the airspace.

Another commenter stated that all military testing should be moved to an area of lower population density.

As stated above, military use of the APAFR area dates back to the 1940s. Over time, many military installations, including APAFR, have experienced growth of communities located near the installation which results in challenges to both the military mission and the surrounding community. The military is currently participating in the Avon Park Air Force Range Joint Land Use Study, sponsored by the Central Florida Regional Planning Council. This project is a cooperative land use planning effort between the military installation and surrounding communities to promote compatible community growth while supporting military training and operational missions. The goal of this study is to protect the health, safety and welfare of the local community with regard to military operations and to address development that may impact the mission of the APAFR.

Representatives of the Indian Hammock Airport (FL75), Fort Drum, FL, wrote with concerns about the proposed airspace changes. FL75 is a charted, private-use, uncontrolled airport located along the eastern edge of the Marian MOA. Airport users were concerned that extending the MOA operating hours to include weekends and nighttime would impact the airport's busiest periods and increase the risk of an accident. They noted that aircraft frequently pass under FL75's 800-foot traffic pattern and/or in close proximity to the airport. Airport representatives recommended that a plan be developed to avoid FL75, especially on weekends and at night. Additionally, they recommended that visual flight rules (VFR) corridors be developed and published for pilot transit through the northern and southern portions of R-2901.

The FAA has determined that VFR corridors through the APAFR complex are not feasible at this time. In response to the comments regarding impacts on airport operations, a representative from the APAFR met recently with FL75 representatives to discuss the U.S Air Force's Midair Collision Avoidance (MACA) Program, current Range operations and FL75's concerns, and to establish contacts for continuing discussions between FL75 and APAFR.

Representatives of the Destiny Project wrote to request that the Marian MOA be modified due to a development project planned in the area. Specifically, they asked that the minimum MOA flight altitude, within that section of the Marian MOA located in Osceola County, be raised from the current 500 feet above ground level (AGL), to 5,000 feet above mean sea level (MSL).

The Marian MOA was established in 1977. It is used primarily as a maneuvering and holding area for flights going into R-2901 and for periodic exercises. Since the Marian MOA currently extends from 500 feet AGL up to 5,000 feet MSL, raising the MOA floor to 5,000 feet MSL, as requested, would eliminate that part of the MOA that overlies Osceola County. The resulting reduction in available MOA airspace would leave insufficient room for holding and maneuvering, causing military aircraft to exit SUA when entering or departing the restricted areas and/or when maneuvering or holding prior to entering the restricted areas. This would defeat the purpose of a MOA, which is to contain non-hazardous military flying activities and to identify, for nonparticipating pilots, where that activity is being conducted. The NPRM proposed an administrative change to the Marian MOA description to update the name of the using agency and to add a “by NOTAM” provision to the MOA times of use to make them consistent with other APAFR SUA areas. No changes to the boundaries or altitude structure of the Marian MOA were proposed in the NPRM, therefore the requested MOA modification is outside the scope of this action. For the above reasons, the Marian MOA boundaries or altitudes will not be modified as part of this action.

Military Operations Areas (MOA)

MOAs are established to separate or segregate non-hazardous military flight activities from aircraft operating in accordance with instrument flight rules (IFR), and to advise pilots flying under VFR where these activities are conducted. IFR aircraft may be routed through an active MOA only by agreement with the using agency and only when air traffic control can provide approved separation from the MOA activity. VFR pilots are not restricted from flying in an active MOA, but are advised to exercise caution while doing so. As noted in the NPRM, MOAs are nonregulatory airspace areas that are established administratively and published in the National Flight Data Digest (NFDD) rather than through rulemaking procedures. When a nonrulemaking action is an integral part of a rulemaking action, FAA procedures allow for the nonrulemaking changes to be included in the rulemaking action. Since the MOAs are an integral part of the Avon Park Range airspace structure, the MOA changes are included in this rule as well as being published in the NFDD.

APAFR MOA Changes

This action subdivides the Lake Placid MOA, cancels the Avon North and Avon South MOAs, establishes the Avon East High MOA, amends some MOA times of use and updates the name of the using agency for all APAFR MOAs. Specifically, the Lake Placid MOA is subdivided into three parts: Lake Placid North, Lake Placid West and Lake Placid East. These charted subdivisions will simplify coordination with MOA users and will allow more efficient traffic flows for nonparticipating aircraft when parts of the MOA are not in use by the military. The eastern boundary of the new Lake Placid North and Lake Placid West MOAs is adjusted to eliminate a slight overlap of the MOAs into restricted airspace. The times of use for the Lake Placid MOAs are amended to include a provision to allow for activation of the airspace at “other times by NOTAM” to be consistent with other APAFR SUA. The altitudes for the Lake Placid MOAs are not being changed and will remain as currently published: from 7,000 feet MSL to but not including FL 180.

The existing Avon North and Avon South MOAs, both of which extend upward from 5,000 feet MSL to but not including FL 180, are cancelled and the airspace converted into Restricted Areas R-2901M and R-2901N, respectively, as described in the rule section, below. A new MOA, designated Avon East High, is established directly above the existing Avon East MOA. The Avon East MOA currently extends from 500 feet AGL up to but not including 14,000 feet MSL. The new Avon East High MOA extends from 14,000 feet MSL to but not including FL 180.

The times of use for the Basinger and Marian MOAs are changed to add a provision to allow for activation of the airspace at “other times by NOTAM.” This change aligns the Basinger and Marian MOA times of use with the other APAFR SUA areas.

The name of the using agency for all APAFR MOAs is changed to read “U.S. Air Force, Commander, 23rd Wing, Det. 1, MacDill AFB, FL,” to reflect the current organizational title. Minor corrections were made to the boundary descriptions of the Avon East, Avon East High and Basinger MOAs. These corrections consist of more accurate latitude/longitude points that do not change the size or the charted depiction of the areas.

The APAFR MOA description changes are as follows:

Avon East MOA, FL [Amended]

By removing the current boundaries and using agency and substituting the following:

Boundaries. Beginning at lat. 27°44′46″ N., long. 81°11′39″ W.; to lat. 27°44′46″ N., long. 81°08′29″ W.; to lat. 27°34′01″ N., long. 81°04′29″ W.; to lat. 27°32′31″ N., long. 81°07′23″ W.; to lat. 27°35′01″ N., long. 81°08′59″ W.; to the point of beginning.

Using agency. U.S. Air Force, Commander, 23rd Wing, Det 1, MacDill AFB, FL.

Avon East High MOA, FL [New]

Boundaries. Beginning at lat. 27°44′46″ N., long. 81°11′39″ W.; to lat. 27°44′46″ N., long. 81°08′29″ W.; to lat. 27°34′01″ N., long. 81°04′29″ W.; to lat. 27°32′31″ N., long. 81°07′23″ W.; to lat. 27°35′01″ N., long. 81°08′59″ W.; to the point of beginning.

Altitudes. 14,000 feet MSL to but not including FL 180.

Times of use. Intermittent, normally daylight hours, Monday-Friday; other times by NOTAM.

Controlling agency. FAA, Miami ARTCC.

Using agency. U.S. Air Force, Commander, 23rd Wing, Det 1, MacDill AFB, FL.

Basinger MOA, FL [Amended]

By removing the current boundaries, times of use and using agency and substituting the following:

Boundaries. Beginning at lat. 27°32′31″ N., long. 81°07′23″ W.; to lat. 27°34′01″ N., long. 81°04′29″ W.; to lat. 27°23′16″ N., long. 80°56'59″ W.; to lat. 27°21′01″ N., long. 80°59′59″ W.; to lat. 27°29'31″ N., long. 81°05′29″ W.; to the point of beginning.

Times of use. Intermittent, normally daylight hours, Monday-Friday; occasionally Saturday and Sunday; other times by NOTAM.

Using agency. U.S. Air Force, Commander, 23rd Wing, Det 1, MacDill AFB, FL.

Lake Placid North MOA, FL [New]

Boundaries. Beginning at lat. 27°53′31″ N., long. 81°51′59″ W.; to lat. 28°00′01″ N., long. 81°20′59″ W.; to lat. 27°55′01″ N., long. 81°25′19″ W.; to lat. 27°42′49″ N., long. 81° 36′16″ W.; to lat. 27°35′44″ N., long. 81°42′14″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL.

Lake Placid West MOA, FL [New]

Boundaries. Beginning at lat. 27°35′44″ N., long. 81°42′14″ W.; to lat. 27°42′49″ N., long. 81°36′16″ W.; to lat. 27°21′30″ N., long. 81°28′00″ W.; to lat. 27°04′01″ N., long. 81°16′59″ W.; to lat. 27°04′01″ N., long. 81°24′59″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL.

Lake Placid East MOA, FL [New]

Boundaries. Beginning at lat. 27°42'49″ N., long. 81°36'16″ W.; to lat. 27°55′01″ N., long. 81°25′19″ W.; to lat. 27°42′01″ N., long. 81°25′19″ W.; to lat. 27°32′33″ N., long. 81°21′39″ W.; to lat. 27°30′46″ N., long. 81°17′49″ W.; to lat. 27°24′46″ N., long. 81°10′59″ W.; to lat. 27°15′03″ N., long. 81°04′54″ W.; to lat. 27°04′01″ N., long. 81°16′59″ W.; to lat. 27°21′30″ N., long. 81°28′00″ W.; to the point of beginning.

Altitudes. 7,000 feet MSL to but not including FL 180.

Times of use. Intermittent, normally daylight hours, Monday-Friday; occasionally on Saturday and Sunday; other times by NOTAM.

Controlling agency. FAA, Miami ARTCC.

Using agency. U.S. Air Force, Commander, 23rd Wing, Det 1, MacDill AFB, FL.

Marian MOA, FL [Amended]

By removing the times of use and current using agency and substituting the following:

Times of use. Intermittent, normally daylight hours, Monday-Friday; occasionally Saturday and Sunday; other times by NOTAM.

Using agency. U.S. Air Force, Commander, 23rd Wing, Det 1, MacDill AFB, FL.

The above MOA changes will also be published in the National Flight Data Digest.

The Rule

This action amends 14 CFR part 73 by restructuring the restricted airspace areas at the APAFR to enable training in various high-altitude tactics that are essential for combat readiness and are currently being used in actual combat operations. This action adds new restricted area subdivisions to raise the ceiling of restricted airspace at the Range to a maximum of FL 400. The current restricted area floors remain unchanged. As noted above, the Avon North and Avon South MOAs are cancelled and that airspace is converted to Restricted Areas R-2901M and R-2901N, respectively. This adds restricted airspace up to but not including 14,000 feet MSL in those parts of the Range. The lateral boundaries of R-2901B are expanded so that R-2901B overlies all other APAFR restricted areas that are designated below 14,000 feet MSL. Also, the ceiling of R-2901B is changed to read “to but not including FL 180.” In order to provide the higher restricted airspace needed for training, three new restricted areas (R-2901J, R-2901K and R-2901L) are established above R-2901B. The new R-2901J directly overlies R-2901B and extends from FL 180 up to but not including FL 230. The new R-2901K overlies R-2901J and extends from FL 230 up to but not including FL 310. The new R-2901L overlies R-2901K and extends from FL 310 up to and including FL 400. This arrangement of layered restricted area subdivisions allows the airspace to be activated in segments, as needed, up to FL 400. Restricted area segments not required for the military mission can be released to Miami ARTCC for access by nonparticipating aircraft.

The name of the using agency for all APAFR restricted areas is changed to read “U.S. Air Force, Commander, 23rd Wing, Det 1, MacDill AFB, FL,” to reflect the current organizational title.

The descriptions of restricted areas R-2901A, C, D, E, F, G, H and I include a minor change to the designated altitude descriptions by adding the words “to but not including” before the ceiling altitude to prevent overlap with the floor of overlying restricted airspace. In addition, two points are added to the boundary descriptions of restricted areas R-2901B, J, K and L at the request of the National Aeronautical Charting Office. The additional two points fall along the existing boundary line and do not affect the size or charted depiction of the areas.

With the exception of editorial changes, and the changes described above, this amendment is the same as that proposed in the NPRM.

The FAA has determined that this regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it will restructure the SUA at the APAFR in Florida.

Environmental Review

The FAA has reviewed the Avon Park Air Force Range, FL, Special Use Airspace modifications and has determined that the project is categorically excluded from further environmental documentation in accordance with FAA Order 1050.1E, “Environmental Impacts: Policies and Procedures,” Paragraph 311d. The implementation of this action will not result in any extraordinary circumstances in accordance with Order 1050.1E.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 (Amended)

2. § 73.29 is amended as follows:

* * * * *

R-2901A Avon Park, FL [Amended]

By removing the current designated altitudes and using agency and substituting the following:

Designated altitudes. Surface to but not including 14,000 feet MSL.

Using agency. U.S. Air Force, Commander, 23rd Wing, Det 1, MacDill AFB, FL

* * * * *

R-2901B Avon Park, FL [Revised]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′29″ W.; to lat. 27°29′31″ N., long. 81°05′29″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. 14,000 feet MSL to but not including FL 180.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901C Avon Park, FL [Amended]

By removing the current designated altitudes and using agency and substituting the following:

Designated altitudes. Surface to but not including 14,000 feet MSL.

Using agency. U.S. Air Force, Commander, 23rd Wing, Det 1, MacDill AFB, FL.

* * * * *

R-2901D Avon Park, FL [Amended]

By removing the current designated altitudes and using agency and substituting the following:

Designated altitudes. 500 feet MSL to but not including 4,000 feet MSL east of long. 81°21′00″ W.; 1,000 feet AGL to but not including 4,000 feet MSL west of long. 81°21′00″ W.

Using agency. U.S. Air Force, Commander, 23rd Wing, Det 1, MacDill AFB, FL.

* * * * *

R-2901E Avon Park, FL [Amended]

By removing the current designated altitudes and using agency and substituting the following:

Designated altitudes. 1,000 feet MSL to but not including 4,000 feet MSL.

Using agency. U.S. Air Force, Commander, 23rd Wing, Det 1, MacDill AFB, FL.

* * * * *

R-2901F Avon Park, FL [Amended]

By removing the current designated altitudes and substituting the following:

Designated altitudes. 4,000 feet MSL to but not including 5,000 feet MSL.

Using agency. U.S. Air Force, Commander, 23rd Wing, Det 1, MacDill AFB, FL.

* * * * *

R-2901G Avon Park, FL [Amended]

By removing the current designated altitudes and using agency and substituting the following:

Designated altitudes. Surface to but not including 5,000 feet MSL.

Using agency. U.S. Air Force, Commander, 23rd Wing, Det 1, MacDill AFB, FL.

* * * * *

R-2901H AvonPark, FL [Amended]

By removing the current designated altitudes and using agency and substituting the following:

Designated altitudes. 1,000 feet MSL to but not including 4,000 feet MSL.

Using agency. U.S. Air Force, Commander, 23rd Wing, Det 1, MacDill AFB, FL.

* * * * *

R-2901I AvonPark, FL [Amended]

By removing the current designated altitudes and using agency and substituting the following:

Designated altitudes. 1,500 feet MSL to but not including 4,000 feet MSL

Using agency. U.S. Air Force, Commander, 23rd Wing, Det 1, MacDill AFB, FL.

* * * * *

R-2901J, Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′29″ W.; to lat. 27°29′31″ N., long. 81°05′29″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 180 to but not including FL 230.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901K Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′29″ W.; to lat. 27°29′31″ N., long. 81°05′29″ W., to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 230 to but not including FL 310.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901L Avon Park, FL [New]

Boundaries. Beginning at lat. 28°00′01″ N., long. 81°20′59″ W.; to lat. 28°00′01″ N., long. 81°13′59″ W.; to lat. 27°44′46″ N., long. 81°13′59″ W.; to lat. 27°44′46″ N., long. 81°11′39″ W.; to lat. 27°35′01″ N., long. 81°08′59″ W.; to lat. 27°32′31″ N., long. 81°07′29″ W.; to lat. 27°29′31″ N., long. 81°05′29″ W.; to lat. 27°21′01″ N., long. 80°59′59″ W.; to lat. 27°16′46″ N., long. 81°05′59″ W.; to lat. 27°24′46″ N., long. 81°10′59″ W.; to lat. 27°30′46″ N., long. 81°17′49″ W.; to lat. 27°32′33″ N., long. 81°21′39″ W.; to lat. 27°42′01″ N., long. 81°25′19″ W.; to lat. 27°55′01″ N., long. 81°25′19″ W.; to the point of beginning.

Designated altitudes. FL 310 to FL 400.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901M Avon Park, FL [New]

Boundaries. Beginning at lat. 28°00′01″ N., long. 81°20′59″ W.; to lat. 28°00′01″ N., long. 81°13′59″ W.; to lat. 27°48′31″ N., long. 81°13′59″ W.; thence west along Florida State Routes 60 and 630 to lat. 27°46′01″ N., long. 81°25′19″ W.; to lat. 27°55′01″ N., long. 81°25′19″ W.; to the point of beginning.

Designated altitudes. 4,000 feet MSL to but not including 14,000 feet MSL.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

* * * * *

R-2901N Avon Park, FL [New]

Boundaries. Beginning at lat. 27°32′33″ N., long. 81°21′39″ W.; to lat. 27°32′37″ N., long. 81°16′46″ W.; to lat. 27°29′01″ N., long. 81°13′29″ W.; to lat. 27°32′31″ N., long. 81°07′29″ W.; to lat. 27°29′31″ N., long. 81°05′29″ W.; to lat. 27°21′01″ N., long. 80°59′59″ W.; to lat. 27°16′46″ N., long. 81°05′59″ W.; to lat. 27°24′46″ N., long. 81°10′59″ W.; to lat. 27°30′46″ N., long. 81°17′49″ W.; to the point of beginning.

Designated altitudes. 5,000 feet MSL to but not including 14,000 feet MSL north of a line from lat. 27°24′46″ N., long. 81°10′59″ W.; to lat. 27°29′31″ N., long. 81°05′29″ W.; 4,000 feet MSL to but not including 14,000 feet MSL south of that line.

Time of designation. Intermittent, 0600-2400, Monday-Friday; 0800-1800, Saturday-Sunday; other times by NOTAM 6 hours in advance.

Controlling agency. FAA, Miami ARTCC.

Using agency. U.S. Air Force, Commander, 23rd Wing, Det 1, MacDill AFB, FL.

Issued in Washington, DC, on May 18, 2010.
Edith V. Parish,
Manager, Airspace & Rules Group.

[FR Doc. 2010-12409 Filed 5-21-10; 8:45 am]

BILLING CODE 4910-13-P